DEPARTMENT OF HOMELAND SECURITY

Coast Guard

[USCG 2003-15169]

Information Collection Under Review by the Office of Management and Budget (OMB): OMB Control Numbers: 1625-0039 (Formerly 2115-0506), 1625-0038 (Formerly 2115-0505), 1625-0066 (Formerly 2115-0595), and 1625-0012 (Formerly 2115-0042)

AGENCY: Coast Guard, DHS.

ACTION: Request for comments.

SUMMARY: In compliance with the Paperwork Reduction Act of 1995, this request for comments announces that the Coast Guard has forwarded the four Information Collection Requests (ICRs) abstracted below to the Office of Information and Regulatory Affairs (OIRA) of the Office of Management and Budget (OMB) for review and comment. Our ICRs describe the information we seek to collect from the public. Review and comment by OIRA ensures that we impose only paperwork burdens commensurate with our performance of duties.

DATES: Please submit comments on or before September 12, 2003.

ADDRESSES: To make sure that your comments and related material do not enter the docket [USCG 2003-15169] more than once, please submit them by only one of the following means:

(1)(a) By mail to the Docket Management Facility, U.S. Department of Transportation, room PL-401, 400 Seventh Street, SW., Washington, DC 20590-0001. (b) By mail to OIRA, 725 17th Street NW., Washington, DC 20503, to the attention of the Desk Officer for the Coast Guard.

(2)(a) By delivery to room PL-401 at the address given in paragraph (1)(a) above, between 9 a.m. and 5 p.m., Monday through Friday, except Federal holidays. The telephone number is 202-366-9329. (b) By delivery to OIRA, at the address given in paragraph (1)(b) above, to the attention of the Desk Officer for the Coast Guard.

(3) By fax to (a) the Facility at 202-493-2251 and (b) OIRA at 202-395-5806, or e-mail to OIRA at oira_docket@omb.eop.gov, attention: Desk Officer for the Coast Guard.

(4)(a) Electronically through the Web site for the Docket Management System at http://dms.dot.gov. (b) OIRA does not have a Web site on which you can post your comments.

(5) Electronically through Federal eRule Portal: http://www.regulations.gov.

The Facility maintains the public docket for this notice. Comments and material received from the public, as well as documents mentioned in this notice as being available in the docket, will become part of this docket and will be available for inspection or copying at room PL-401 (Plaza level), 400 Seventh Street, SW., Washington, DC, between 9 a.m. and 5 p.m., Monday through Friday, except Federal holidays. You may also find this docket on the Internet at http://dms.dot.gov.

Copies of the complete ICRs are available for inspection and copying in public dockets. They are available in docket USCG 2003-15169 of the Docket Management Facility between 10 a.m. and 5 p.m., Monday through Friday, except Federal holidays; for inspection and printing on the Internet at http://dms.dot.gov; and for inspection from the Commandant (G-CIM-2), U.S. Coast Guard, room 6106, 2100 Second Street SW., Washington, DC, between 10 a.m. and 4 p.m., Monday through Friday, except Federal holidays.

FOR FURTHER INFORMATION CONTACT: Barbara Davis, Office of Information Management, 202-267-2326, for questions on this document; Dorothy Beard, Chief, Documentary Services Division, U.S. Department of Transportation, 202-366-5149, for questions on the docket.

SUPPLEMENTARY INFORMATION:

Public Participation and Request for Comments

We encourage you to participate in this request for comment by submitting comments and related materials. We will post all comments received, without change, to http://dms.dot.gov, and they will include any personal information you have provided. We have an agreement with DOT to use the Docket Management Facility. Please see DOT's “Privacy Act” paragraph below.

Submitting comments: If you submit a comment, please include your name and address, identify the docket number for this request for comment [USCG-2003-15169], indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this proposed rule in view of them.

Viewing comments and documents: To view comments, as well as documents mentioned in this preamble as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 [65 FR 19477], or you may visit http://dms.dot.gov.

Regulatory History

This request constitutes the 30-day notice required by OIRA. The Coast Guard has already published [68 FR 31723 (May 28, 2003)] the 60-day notice required by OIRA. That notice elicited no comments.

Request for Comments

The Coast Guard invites comments on the proposed collections of information to determine whether the collections are necessary for the proper performance of the functions of the Department. In particular, the Coast Guard would appreciate comments addressing: (1) The practical utility of the collections; (2) the accuracy of the Department's estimated burden of the collections; (3) ways to enhance the quality, utility, and clarity of the information that is the subject of the collections; and (4) ways to minimize the burden of collection on respondents, including the use of automated collection techniques or other forms of information technology.

Comments, to DMS or OIRA, must contain the OMB Control Number of the ICR addressed. Comments to DMS must contain the docket number of this request, USCG 2003-15169. Comments to OIRA are best assured of having their full effect if OIRA receives them 30 or fewer days after the publication of this request.

Information Collection Request

1. Title: Declaration of Inspection Before Transfer of Liquid Cargo in Bulk.

OMB Control Number: 1625-0039.

Type of Request: Extension of a currently approved collection.

Affected Public: Persons in charge of transfers.

Form: This collection of information does not require the public to fill out forms, but does require the completion of a Declaration of Inspection (DOI) to ensure safety during transfer of liquid cargo.

Abstract: A DOI documents the transfer of oil and hazardous materials, to help prevent spills and damage to a facility or vessel. Persons in charge of transfers must review and certify compliance with procedures specified by the terms of the DOI.

Annual Estimated Burden Hours: The estimated burden is 66,223 hours a year.

2. Title: Plan Approval and Records for Tank, Passenger, Cargo, and Miscellaneous Vessels, Mobile Offshore Drilling Units, Nautical School Vessels, Oceanographic Research Vessels, and Electrical Engineering—46 CFR Subchapters D, H, I, I-A, J, R, and U.

OMB Control Number: 1625-0038.

Type of Request: Extension of a currently approved collection.

Affected Public: Shipyards, and designers and manufacturers of certain vessels.

Form: This collection of information does not require the public to fill out forms, but does require the submittal of information to the Coast Guard in written format.

Abstract: This information collected requires the shipyard, or the designer or manufacturer for the construction of a vessel, to submit plans, technical information, and operating manuals to the Coast Guard.

Annual Estimated Burden Hours: The estimated burden is 8,835 hours a year.

3. Title: Vessel Response Plans, Facility Response Plans, Shipboard Oil Pollution Emergency Plans, and Additional Response Requirements for Prince William Sound.

OMB Control Number: 1625-0066.

Type of Request: Extension of a currently approved collection.

Affected Public: Owners and operators of vessels and facilities.

Form: This collection of information does not require the public to fill out forms, but does require the submittal of information to the Coast Guard in written format.

Abstract: The Oil Pollution Act of 1990 (OPA 90) required the development of Vessel and Facility Response Plans to minimize the impact of oil spills. It required added measures for Prince William Sound. About the same time, the treaty known in short as MARPOL required Shipboard Oil Pollution Emergency Plans of other vessels to minimize impacts of oil spills.

Annual Estimated Burden Hours: The estimated burden is 137,199 hours a year.

4. Title: Certificate of Discharge to Merchant Mariners

OMB Control Number: 1625-0012.

Type of Request: Extension of a currently approved collection.

Affected Public: Masters or mates of shipping companies and merchant mariners.

Form: CG-718A.

Abstract: The information collected requires a master or mate of a shipping company to submit information on merchant mariners to the Coast Guard that: (1) Establishes their sea-service time; (2) sets forth their qualifications for their original, or for upgrading their existing, merchant-mariner credentials; and (3) sets forth their qualifications for retirement or insurance benefits.

Annual Estimated Burden Hours: The estimated burden is 4,500 hours a year.

Dated: August 6, 2003.
Clifford I. Pearson,
Director of Information and Technology.

[FR Doc. 03-20650 Filed 8-12-03; 8:45 am]

BILLING CODE 4910-18-U